DEPARTMENT OF ENERGY

Federal Energy Regulatory Commission

[Project No. 13951-000]

Bear Creek Hydro Associates, LLC; Notice of Preliminary Permit Application Accepted for Filing and Soliciting Comments, Motions To Intervene, and Competing Applications

On December 22, 2010, the Bear Creek Hydro Associates, LLC filed an application for a preliminary permit, pursuant to section 4(f) of the Federal Power Act (FPA), proposing to study the feasibility of the Bear Creek Hydroelectric Project located on Bear Creek, near Concrete, Washington. The sole purpose of a preliminary permit, if issued, is to grant the permit holder priority to file a license application during the permit term. A preliminary permit does not authorize the permit holder to perform any land-disturbing activities or otherwise enter upon lands or waters owned by others without the owners' express permission.

The proposed project would consist of upper and lower developments. The applicant proposes to rehabilitate and refurbish facilities from an existing project that has been decommissioned for about 30 years.

The upper development includes the following existing facilities: (1) A 100-foot-long diversion structure with a 30-foot-long, 6-foot-high ungated overflow spillway section at an elevation of 987 feet msl; (2) a 400-foot-long, 36-inch-diameter steel penstock; (3) an one-acre reservoir with 2-acre-feet of storage; (4) a 40-foot by 16-foot concrete powerhouse; (5) a 350-foot-long, 12.5 kilovolt (kV), 3-phased transmission line; and (6) 1,850 feet of access roads. The existing turbine would be used, but one new, 250-kilowatt (kW) generator would be installed. The estimated annual power generation for the upper development is 1.2 gigawatt-hours (GWh).

The lower development includes the following existing facilities: (1) A 235-foot-long diversion structure with an 82-foot-long, 24-foot-high ungated overflow spillway section at an elevation of 912 feet msl; (2) an 1.7-acre reservoir; and (3) a 28-foot by 82-foot concrete powerhouse with three existing 200 kW Pelton turbines, totaling 600 kW. The lower development would include the following new facilities: (1) 2,800 foot-long, 36-inch-diameter above-ground steel penstock; and (2) a 3.5-mile-long, 12.5-kV transmission line. The estimated annual power generation for the lower development is 11.7 GWh.

Both developments would have a total installed capacity of 850 kW and generate about 12.9 GWh of energy annually.

Applicant Contact: Thomas M. McMaster, Bear Creek Hydro Associates, LLC, 358 Shallow Shore Road, Bellingham, Washington 98229; phone: (360) 647-2196.

FERC Contact: Patrick Murphy; phone: (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13951-000) in the docket number field to access the document. For assistance, contact FERC Online Support.

Dated: February 8, 2011.
Kimberly D. Bose,
Secretary.

[FR Doc. 2011-3308 Filed 2-14-11; 8:45 am]

BILLING CODE 6717-01-P